GENERAL SERVICES ADMINISTRATION

[OMB Control No. 3090-0112; Docket No. 2025-0001; Sequence No. 3]

Submission for OMB Review; Federal Management Regulation; State Agency Monthly Donation Report of Surplus Property, GSA Form 3040

AGENCY: Federal Acquisition Service, General Services Administration (GSA).

ACTION: Notice; request for public comments.

SUMMARY: Under the provisions of the Paperwork Reduction Act, the Regulatory Secretariat Division will be submitting to the Office of Management and Budget (OMB) a request to review and approve an extension of a previously approved information collection requirement regarding State Agency Monthly Donation Report of Surplus Property, GSA Form 3040.

DATES: Submit comments on or before May 7, 2025.

ADDRESSES: Written comments and recommendations for this information collection should be sent within 30 days of publication of this notice to www.reginfo.gov/public/do/PRAMain. Find this particular information collection by selecting “Currently under Review—Open for Public Comments”; or by using the search function.

FOR FURTHER INFORMATION CONTACT: Christopher Willett, Property Disposal Specialist, GSA Office of Personal Property Management, at telephone 703-605-2873 or via email to christopher.willett@gsa.gov.

SUPPLEMENTARY INFORMATION:

A. Purpose

This report complies with 41 CFR 102-37.360, which requires a State Agency for Surplus Property (SASP) to submit annual reports of personal property donated to public agencies for use in carrying out such purposes as conservation, economic development, education, parks and recreation, public health, and public safety.

B. Annual Reporting Burden

Respondents: 56.

Responses per Respondent: 4.

Total Responses: 224.

Hours per Response: 1.5.

Total Burden Hours: 336.

C. Public Comments

A 60-day notice was published in the Federal Register at 90 FR 4743 on January 16, 2025. No public comments were received.

Obtaining Copies: Requesters may obtain a copy of the information collection documents from the GSA Regulatory Secretariat Division, by calling 202-501-4755 or emailing GSARegSec@gsa.gov.

Lois Mandell,
Director, Regulatory Secretariat Division, General Services Administration.

[FR Doc. 2025-05932 Filed 4-4-25; 8:45 am]

BILLING CODE 6820-34-P